DEPARTMENT OF COMMERCE

International Trade Administration

[A-570-947]

Certain Steel Grating From the People's Republic of China: Notice of Rescission of the 2010-2011 Antidumping Duty Administrative Review

AGENCY: Import Administration, International Trade Administration, Department of Commerce.

SUMMARY: The Department of Commerce (“the Department”) is rescinding the administrative review of the antidumping duty order on certain steel grating from the People's Republic of China (“PRC”) for the period of review (“POR”) of January 6, 2010, through June 30, 2011, with respect to Ningbo Haitian International Co., Ltd. (“Ningbo Haitian”), Shanghai Minmetals Materials & Products Co., Ltd. (“Shanghai Minmetals”), Yantai Xinke Steel Structure Co., Ltd. (“Yantai Xinke”), Sinosteel Yantai Steel Grating Co., Ltd. (“Sinosteel Yantai”), Ningbo Jiulong Machinery Manufacturing Co., Ltd. (“Ningbo Jiulong”), Accurate Screen, Ltd. (“Accurate Screen”), Wuxi Juhua Import/Export Co., Ltd. (“Wuxi Juhua”), and Well Forge Industries (“Well Forge”). This rescission is based on the timely withdrawal of the requests for review by the only interested party that requested the review of these companies.

DATES: Effective Date: December 7, 2011.

FOR FURTHER INFORMATION CONTACT: Thomas Martin or Robert Bolling, AD/CVD Operations, Office 4, Import Administration, International Trade Administration, U.S. Department of Commerce, 14th Street and Constitution Avenue NW., Washington, DC 20230; telephone (202) 482-3936 or (202) 482-3434, respectively.

SUPPLEMENTARY INFORMATION:

Background

On July 1, 2011, the Department published in the Federal Register a notice of opportunity to request an administrative review of the antidumping duty order on certain steel grating from the PRC. See Antidumping or Countervailing Duty Order, Finding, or Suspended Investigation; Opportunity To Request Administrative Review, 76 FR 38609, 38610 (July 1, 2011). In response, on August 1, 2011, Fisher & Ludlow and Alabama Metal Industries Corporation (hereafter referred to as “Petitioners”) timely requested an administrative review of entries of the subject merchandise during the POR from Ningbo Haitian, Shanghai Minmetals, Yantai Xinke, Sinosteel Yantai, Ningbo Jiulong, Accurate Screen, Wuxi Juhua, and Well Forge. On August 26, 2011, the Department initiated a review of these companies. See Initiation of Antidumping and Countervailing Duty Administrative Reviews and Requests for Revocation in Part, 76 FR 53404 (August 26, 2011).

In a letter dated September 21, 2011, Petitioners withdrew their request for review of the aforementioned companies, and requested that the Department rescind the review with respect to these companies. No other parties requested a review.

Rescission of Administrative Review

Pursuant to 19 CFR 351.213(d)(1), the Secretary will rescind an administrative review, in whole or in part, if the party who requested the review withdraws the request within 90 days of the date of publication of the notice of initiation of the requested review. Accordingly, given that Petitioners' withdrawal requests were timely, and because no other party requested a review, pursuant to 19 CFR 351.213(d)(1), the Department is rescinding the entire administrative review of the antidumping duty order on certain steel grating from the PRC for the period January 6, 2010, through June 30, 2011.

Assessment

The Department will instruct U.S. Customs and Border Protection (“CBP”) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective orders (“APO”) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is published in accordance with sections 751(a) and 777(i) of the Act, and 19 CFR 351.213(d)(4).

Dated: December 1, 2011.
Christian Marsh,
Deputy Assistant Secretary for Antidumping and Countervailing Duty Operations.

[FR Doc. 2011-31447 Filed 12-6-11; 8:45 am]

BILLING CODE 3510-DS-P